SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, New Executive Building, Room 10235, 725 17th St., NW., Washington, DC 20503, Fax: 202-395-6974.

(SSA) Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Statement of Household Expenses and Contributions—20 CFR 416.1130-.1148-0960-0456. Eligibility for Supplemental Security Income (SSI) is based on need. A factor for determining need is whether an individual receives in-kind support and maintenance in the form of food and shelter provided by other persons. SSA collects information on form SSA-8011-F3 to determine the existence and amount of in-kind support and maintenance received by a claimant/beneficiary of SSI. SSA uses the information to determine eligibility and payment amount under this program. The respondents are members of SSI claimants'/beneficiaries' households.

Type of Request: Revision of an OMB-approved Information Collection.

Number of Respondents: 400,000.

Frequency of Response: 1.

Average Burden Per Response: 15 minutes.

Estimated Annual Burden: 100,000 hours.

2. Blood Donor Locator Service—20 CFR 401.200-0960-0501. Section 1141(a) of the Social Security Act and 42 U.S.C. 1320b-11 require that participating State agencies provide the SSA Blood Donor Locator Service (BDLS) with specific information on blood donors who have tested positive for Human Immunodeficiency Virus (HIV). SSA uses the information to identify the donor and to locate the donor's address in SSA records for the purpose of notifying the states and assuring that states meet regulatory requirements to qualify for using the BDLS. SSA will retain no record of the request or the information after processing has been completed. The respondents are participating State agencies acting on behalf of authorized blood donor facilities.

Type of Request: Extension of an OMB-approved Information Collection.

Number of Respondents: 10.

Frequency of Response: 5.

Average Burden Per Response: 15 minutes.

Estimated Annual Burden: 12.5 hours.

3. Discrimination Complaint Form—0960-0585. The information collected on form SSA-437 is used by SSA to investigate and informally resolve complaints of discrimination based on race, color, national origin, sex, age, religion, and retaliation in any program or activity conducted by SSA. A person who believes that he or she has been discriminated against on any of the above basis may file a written complaint of discrimination. The information will be used to identify the complainant; identify the alleged discriminatory act; ascertain the date of such alleged act; obtain the identity of the individual(s)/facility/component that allegedly discriminated; and ascertain other relevant information that would assist in the investigation and resolution of the complaints. The respondents are individuals who allege discrimination on the grounds described above.

Type of Request: Extension of an OMB-approved Information Collection.

Number of Respondents: 98.

Frequency of Response: 1.

Average Burden Per Response: 60 minutes.

Estimated Annual Burden: 98 hours.

4. Benefits Planning, Assistance, and Outreach (BPAO) Program—0960-0629.

Background

SSA awarded cooperative agreements to establish community-based benefits planning, assistance, and outreach projects in every State and U.S. Territory, as authorized under section 1149 of the Social Security Act. Potential awardees were State and local governments, public and private organizations, and nonprofit and for-profit organizations. SSA intended to establish as many projects as needed to ensure State-wide coverage for all Social Security Disability Insurance (SSDI) and Supplemental Security Income (SSI) beneficiaries nationally. The projects funded under this cooperative agreement program are part of SSA's strategy to increase the number of beneficiaries who return to work and achieve self-sufficiency as the result of delivering direct services to them. The overall goal of the program is to disseminate accurate information concerning work incentives programs and issues related to youth programs, to beneficiaries with disabilities (including transition-to-work aged youth), in order to enable them to make informed choices about work.

Collection Activities

The BPAO project collects identifying information from the project sites and benefits specialists. In addition, data are collected from the beneficiaries on background, employment, training, benefits, and work incentives. We use the information to manage the program, with particular emphasis on contract administration, budgeting, and training. In addition, SSA uses the information to evaluate the efficacy of the program and to ensure that those dollars appropriated for BPAO services are being spent on SSA beneficiaries. The project data will be valuable to SSA in its analysis of and future planning for the SSDI and SSI programs.

Type of Request: Extension of an OMB-approved Information Collection.

Title of collection | Number of annual responses | Frequency of response | Average burden per response (in minutes) | Estimated annual burden hours
Site | 147 | 1 | 1.8 | 4.4
Specialist | 422 | 1 | 1.8 | 12.6
Beneficiary | 60,000 | 1 | 5.3 | 5,300

Total burden hours for this request: 5,317.

5. Application for Supplemental Security Income—20 CFR 416.305-335-0960-0229. The information collected using Form SSA-8000-BK or during a personal interview is needed and used to determine eligibility for SSI and the amount of benefits payable. The respondents are applicants for SSI payments.

Type of Request: Extension of an OMB-approved Information Collection.

Number of Respondents: 1,128,374.

Frequency of Response: 1.

Average Burden Per Response: 40 minutes.

Estimated Annual Burden: 752,249 hours.

6. Pre-1957 Military Service Federal Benefit Questionnaire—20 CFR 404.1301-1371—0960-0120. Form SSA-2512 collects data used in the claims adjudication process to grant gratuitous military wage credits, when applicable, and solicits sufficient information to make a determination of eligibility. The respondents are individuals who are applying for Social Security benefits on the record of a wage earner with pre-1957 military service.

Type of Request: Extension of an OMB-approved information collection.

Number of Respondents: 12,000.

Frequency of Response: 1.

Average Burden Per Response: 10 minutes.

Estimated Annual Burden: 2,000 hours.

II. The information collections listed below has been submitted to OMB for clearance. Your comments on the information collections would be most useful if received by OMB and SSA within 30 days from the date of this publication. You can obtain a copy of the OMB clearance packages by calling the SSA Reports Clearance Officer at 410-965-0454, or by writing to the address listed above.

1. Application for Widow's or Widower's Insurance Benefits—20 CFR 404.335-338—0960-0004. SSA uses the information collected on the form SSA-10-BK or during a personal interview to determine if the applicant meets the statutory and regulatory conditions for entitlement to widow(er)'s benefits. The respondents are applicants for Widow(er)'s benefits.

Type of Request: Extension of an OMB-approved Information Collection.

Number of Respondents: 288,580.

Frequency of Response: 1.

Average Burden Per Response: 15 minutes.

Estimated Annual Burden: 72,145 hours.

2. Subpart T—State Supplementation Provisions—20 CFR 416.2095-2099—0960-0240. Section 1618 of the Social Security Act contains pass along provisions of the Social Security Amendments. These provisions require States that supplement the Federal SSI benefits pass along Federal cost-of-living increases to the individuals who are eligible for State Supplementary benefit payments. If the State fails to keep payments at the required level, it becomes ineligible for Medicaid reimbursement under Title XIX of the Social Security Act. Social Security rules at 20 CFR 416.2099 require the States to report mandatory minimum and optional supplementary payment data to SSA. The information is used to determine compliance with the law and regulations. The respondents are States that supplement Federal SSI payments.

Type of Request: Extension of an OMB-approved Information Collection.

Number of Respondents: 16.

Number of Responses: 15 states report quarterly, 11 states report annually.

Average Burden Per Response: 1 hour.

Estimated Annual Burden: 71 hours.

3. Request for Replacement SSA-1099/SSA-1042S Social Security Benefits Statement—20 CFR 401.45—0960-0583. The information requested by SSA via the Internet will be used to verify identity and to provide replacement copies of Form SSA-1099/SSA-1042, which are needed to prepare Federal tax returns. This Internet option to request a replacement SSA-1099/SSA-1042 eliminates the need for a phone call to a teleservice center or a visit to a field office. The respondents are beneficiaries who request a replacement SSA-1099/1042 via the Internet.

Type of Request: Extension of an OMB-approved Information Collection.

Number of Respondents: 21,000.

Frequency of Response: 1.

Average Burden Per Response: 1.5 minutes.

Estimated Average Burden: 525 hours.

4. Application of Circuit Court Law; 20 CFR 404.985 and 416.1485—0960-0581. Social Security rules at 20 CFR 404.985 and 416.1485 inform claimants of their right to request that a published Acquiescence Ruling (AR) be applied to a prior determination when we make a determination or decision on a claim between the date of the Circuit Court decision and the date we publish the AR. The regulations also specify that claimants can request that the AR be applied to a prior determination or decision by submitting a statement that demonstrates how the AR could change the prior determination or decision. SSA will use the information provided in the statement to readjudicate the claim if the claimant demonstrates the Ruling could change the prior determination. Claimants may use Form SSA-795, Statement of Claimant or Other Person (0960-0045) or submit a written request, to request and support application of a published AR to the prior determination or decision. The respondents are claimants whose determinations or decisions on their claims may be affected by an AR.

Type of Request: Extension of an OMB-approved Information Collection.

Number of Respondents: 100,000.

Frequency of Response: 1.

Average Burden Per Response: 17 minutes.

Estimated Annual Burden: 28,333 hours.

5. Integrated Registration for Employers and Submitters (IRES)—0960-0626. The IRES authentication system is a free service designed to allow employers to access SSA's electronic wage reporting services, and to replace the use of a handwritten signature with an electronic signature. Employer representatives use an IRES-generated personal identification number (PIN) and password as their electronic signature. IRES is designed to be more efficient, reducing the costs to both employers and SSA, and will facilitate the filing of wage data electronically. SSA's paramount interest in the development of IRES was to ensure that the new electronic method of identifying wage report submitters provides the name security features as the current paper-based method. Security features include message integrity, originator authentication, non-repudiation and confidentiality. The PIN and password will be issued to an individual designated by the employer after SSA authenticates the company and contact information provided by the individual. SSA uses the IRES in conjunction with SSA's wage reporting processes. It is used as the gateway for electronic wage reporting and the online employee verification service. IRES will also be used when SSA implements additional electronic services such as electronic notices and error information, and to authenticate representatives of organizational representative payees in a limited Proof of Concept study. Also, the PIN will be used in the Annual Wage Reporting diskette process to replace IRS paper form 6559. SSA has received approval from IRS to use an alternative signature. Respondents to IRES will be Employers and Submitters who utilize SSA's electronic wage reporting and online employee verification services.

Type of Request: Extension of an OMB-approved Information Collection.

Number of Respondents: 250,120.

Number of Responses: 1.

Average Burden Per Response: 2 minutes.

Estimated Annual Burden: 8,337 hours.

6. Request for Internet Services—Password—0960-0632. SSA uses a PIN/password process for verifying the identity of individuals who choose to use the Internet and Automated Telephone Response in order to conduct business with the agency. An individual will be requested to provide certain information about himself or herself that SSA can verify in its records in order to obtain a password for use with its electronic services. The information that SSA collects varies depending on individual circumstances. Some examples of the information collected are: name, social security number, password request code, benefit payment amount, and other shared secret types of information from SSA records. Once the requestor's identity is verified, SSA issues a PIN to the requestor which will allow them to establish a password for use with SSA Internet/telephone transactions. Until now, the services offered have been primarily to beneficiaries receiving benefits under title II of the Social Security Act, including Retirement, Survivors and Disability benefits. SSA now offers the opportunity for certain beneficiaries receiving benefits under title XVI of the Social Security Act, known as SSI, to report their wages electronically. SSA has initiated a 6-month Proof of Concept project to test the beneficiary acceptance of this technology for reporting wages. Participation in this Proof of Concept is voluntary. Individuals who must report wages include SSI beneficiaries, and, in some cases, the parent or spouse of the SSI beneficiary. In order to use SSA's electronic services, SSA must authenticate the person using its PIN/password process to protect the information in its records from those not authorized to receive it. This technology is expected to be more secure, less burdensome, faster and provide better customer service than other available options. The respondents are individuals who elect to conduct business with the agency in an electronic medium.

Type of Request: Extension of an OMB-approved Information Collection.

Number of Respondents: 412,267.

Frequency of Response: 1.

Average Burden Per Response: 10 minutes.

Estimated Annual Burden: 68,711 hours.

7. Student Reporting Form—20 CFR 404 Subpart B, and 20 CFR 422 Subparts D & E—0960-0088. Form SSA-1383 is used by Social Security student beneficiaries to report events or changes that may affect continuing entitlement to these benefits. We are revising this form in order to solicit information about incarceration in compliance with current law. The respondents are Social Security student beneficiaries.

Type of Request: Revision of an OMB-approved Information Collection.

Number of Respondents: 75,000.

Frequency of Response: 1.

Average Burden Per Response: 6 minutes.

Estimated Annual Burden: 7,500 hours.

8. Waiver of Right to Appear; 20 CFR 404.913-914, 20 CFR 404.916(b)(5); 20 CFR 416.1413-.1414 and 1416(b)(5)—0960-0534. SSA uses Form SSA-773-U4 to provide claimants with an effective means of requesting a waiver of their right to appear at a disability hearing. The information collected will be used as documentation that claimants understand their rights to appear and the effects of the decision to waive this right. The respondents are claimants under Title II (Old-Age, Survivors and Disability Insurance) and Title XVI (SSI) of the Social Security Act, who wish to waive their right to a disability hearing.

Type of Request: Extension of an OMB-approved Information Collection.

Number of Respondents: 200.

Frequency of Response: 1.

Average Burden Per Response: 3 minutes.

Annual Burden: 10 hours.

III. Action: Notice of OMB Approval. As required by the Paperwork Reduction Act of 1995 (44 U.S.C. 3507), SSA is providing notice of OMB's approval of the information collections in 20 CFR parts 404 subpart P & 416 subpart I. In accordance with the Paperwork Reduction Act, persons are not required to respond to an information collection unless it displays a valid Office of Management and Budget control number. The OMB Number is 0960-0654, which expires October 31, 2006.

Dated: October 23, 2003.
Elizabeth A. Davidson,
Reports Clearance Officer, Social Security Administration.

[FR Doc. 03-27347 Filed 10-29-03; 8:45 am]

BILLING CODE 4191-02-P